DEPARTMENT OF COMMERCE.

International Trade Administration

[A-489-807]

Certain Steel Concrete Reinforcing Bars from Turkey; Notice of Extension of Time Limits for Final Results of Antidumping Duty Administrative Review and New Shipper Review

AGENCY: Import Administration, International Trade Administration, Department of Commerce.

EFFECTIVE DATE: June 11, 2007.

FOR FURTHER INFORMATION CONTACT: Irina Itkin, AD/CVD Operations, Office 2, Import Administration, International Trade Administration, U.S. Department of Commerce, 14th Street and Constitution Avenue, NW, Washington, DC 20230; telephone (202) 482-0656.

Background

The Department of Commerce (the Department) published an antidumping duty order on certain steel concrete reinforcing bars (rebar) from Turkey on April 17, 1997. See Antidumpting Duty Order: Certain Steel Concrete Reinforcing Bars From Turkey, 62 FR 18748. On May 31, 2006, the Department published a notice of initiation of an administrative review of the order on rebar from Turkey for the period April 1, 2005, through March 31, 2006. See Initiation of Antidumping and Countervailing Duty Administrative Reviews and Request for Revocation in Part, 71 FR 30864 (May 31, 2006). The review covers five producers/exporters of the subject merchandise to the United States: Colakoglu Metalurji A.S./Colakoglu Dis Ticaret, Diler Demir Celik Endustrisi ve Ticaret A.S./Yazici Demir Celik Sanayi ve Turizm Ticaret A.S./Diler Dis Ticaret A.S., Ekinciler Demir ve Celik Sanayi A.S./Ekinciler Dis Ticaret A.S., Habas Sinai ve Tibbi Gazlar Istihsal Endustrisi A.S., and Kaptan Metal Dis Ticaret ve Nakliyat A.S./Kaptan Demir Celik Endustrisi ve Ticaret A.S.

In addition, on May 26, 2006, the Department published a notice of initiation of a new shipper review of the antidumping duty order on rebar from Turkey for Kroman Celik Sanayii A.S., a producer of subject merchandise, and its affiliated export trading company, Yucelboru Ihracat Ithalat ve Pazarlama A.S. (collectively “Kroman”). See Notice of Initiation of New Shipper Antidumping Duty Review: Certain Steel Concrete Reinforcing Bars from Turkey, 71 FR 30383 (May 26, 2006). Kroman agreed in writing to waive the time limits in order for the Department, pursuant to 19 CFR 351.214(j)(3), to conduct this review concurrently with the administrative review of this order for the period April 1, 2005, through March 31, 2006, which is being conducted pursuant to section 751(a)(1) of the Tariff Act of 1930, as amended (the Act).

On May 4, 2007, the Department published the preliminary results of the administrative review and new shipper review of the antidumping duty order on rebar from Turkey. See Certain Steel Concrete Reinforcing Bars from Turkey; Preliminary Results of Antidumping Duty Administrative Review and New Shipper Review and Notice of Intent to Revoke in Part, 72 FR 25253 (May 4, 2007). The final results are currently due no later than September 4, 2007, the next business day after 120 days from publication of the preliminary results.

Extension of the Time Limit for Final Results of Administrative Review

Section 751(a)(3)(A) of the Act requires the Department to issue the final results in an administrative review within 120 days of the publication date of the preliminary results. However, if it is not practicable to complete the review within this time period, section 751(a)(3)(A) of the Act allows the Department to extend the time limit for the final results to a maximum of 180 days. The Department has determined that completion of the final results of these reviews within the original time period is not practicable, given the extraordinarily complicated nature of the proceeding. The Department requires additional time complete the administrative review because of analysis of certain issues, including allegations raised by the domestic interested parties regarding affiliation among respondent companies, as well as the need to conduct verifications of certain companies. Furthermore, the new shipper review involves extraordinarily complicated issues including the above-mentioned allegations raised by the domestic interested parties regarding affiliation among respondent companies, as well as the need to conduct verification of the respondent. Therefore, the Department is fully extending the time limit for completion of the final results of the administrative and new shipper reviews to 180 days, until October 31, 2007.

This notice is issued and published in accordance with sections 751(a)(3)(A) and 777(i)(1) of the Act.

Dated: June 4, 2007.
Stephen J. Claeys,
Deputy Assistant Secretary for Import Administration.

[FR Doc. E7-11248 Filed 6-8-07; 8:45 am]

BILLING CODE 3510-DS-S